DEPARTMENT OF ENERGY

Federal Energy Regulatory Commission

Combined Notice of Filings #1

July 10, 2008.

Take notice that the Commission received the following electric corporate filings:

Docket Numbers: EC08-107-000.

Applicants: Duke Energy Corporation, Catamount Energy Corp, Ryegate Associates, Rumford Cogeneration Co LP.

Description: Duke Energy Corp, Catamount Energy Corp, Ryegate Associates et al submits an application requesting authorization for the indirect acquisition of securities at Catamount, Ryegate and Rumford under EC08-107.

Filed Date: 07/01/2008.

Accession Number: 20080707-0054.

Comment Date: 5 p.m. Eastern Time on Tuesday, July 22, 2008.

Docket Numbers: EC08-108-000.

Applicants: Forward Energy LLC, EFS Forward, LLC, Wachovia Investment Holdings, LLC.

Description: Forward Energy LLC et al. submits an application for authorization re the sale and transfer of a portion of the Class A membership interests etc.

Filed Date: 07/02/2008.

Accession Number: 20080703-0211.

Comment Date: 5 p.m. Eastern Time on Wednesday, July 23, 2008.

Docket Numbers: EC08-110-000.

Applicants: Baja California Power, Inc., AIG Highstar Capital ll Ocean Star The N, AIG Highstar Capital ll Prism Fund Ocean, AIG Investor Ocean Star The Netherlands, Uluru Finance Limited, GMR Infrastructure (Malta) Limited.

Description: Baja California Power, Inc submits an application for order authorizing Indirect Disposition of Jurisdictional Facilities under Section 203 of the Federal Power Act and Request for Waivers and Expedited Action under EC08-110.

Filed Date: 07/08/2008.

Accession Number: 20080710-0096.

Comment Date: 5 p.m. Eastern Time on Tuesday, July 29, 2008.

Take notice that the Commission received the following electric rate filings:

Docket Numbers: ER94-1061-028.

Applicants: Rainbow Energy Marketing Corporation.

Description: Rainbow Energy Marketing Corporation requests that FERC accept the request for Category Seller determination as timely filed, or alternatively find that good cause exists to grant waiver under ER94-1061.

Filed Date: 07/01/2008.

Accession Number: 20080703-0140.

Comment Date: 5 p.m. Eastern Time on Tuesday, July 22, 2008.

Docket Numbers: ER97-324-011; ER97-3834-018.

Applicants: Detroit Edison Company; DTE Energy Trading, Inc.

Description: The Detroit Edison Company et al submits the revised Market-Based Rate Tariffs under ER97-324 et al.

Filed Date: 07/03/2008.

Accession Number: 20080709-0233.

Comment Date: 5 p.m. Eastern Time on Thursday, July 24, 2008.

Docket Numbers: ER97-3561-006; ER98-3771-002; ER00-2839-006; ER00-1737-012; ER04-834-005; ER96-2869-014; ER02-1342-004; ER97-30-007; ER99-1432-010; ER99-1695-012; ER01-2763-002; ER00-3621-010; ER05-34-006; ER01-468-009; ER05-35-006; ER05-36-006; ER05-37-006; ER04-318-005; ER04-249-006; ER02-23-012; ER07-1306-005.

Applicants: Virginia Electric and Power Company; State Line Energy, L.L.C.; Kincaid Generation, L.L.C.; Elwood Energy, LLC; Dominion Nuclear Connecticut, Inc.; Dominion Energy New England, Inc.; Dominion Energy Marketing, Inc.; Dominion Energy Salem Harbor, LLC; Dominion Energy Brayton Point, LLC; Dominion Energy Manchester Street, Inc.; Dominion Energy Kewaunee, Inc.; Dominion Retail, Inc.; Fairless Energy, LLC; NedPower Mount Storm, LLC.

Description: Notice of Change in Status Under Order No. 697-A of Dominion Resources Services, Inc. under ER97-3561, et al.

Filed Date: 07/02/2008.

Accession Number: 20080702-5128.

Comment Date: 5 p.m. Eastern Time on Wednesday, July 23, 2008.

Docket Numbers: ER99-2061-002.

Applicants: Enjet, Inc.

Description: Enjet, Inc submits an updated market power analysis and rate schedule revisions under ER99-2061.

Filed Date: 07/07/2008.

Accession Number: 20080709-0234.

Comment Date: 5 p.m. Eastern Time on Monday, July 28, 2008.

Docket Numbers: ER99-3502-008; ER02-1884-007; ER02-1884-008.

Applicants: Berkshire Power Company, LLC; Waterside Power, LLC.

Description: Errata to Order No. 697 Compliance Filing of June 30, 2007 of Berkshire Power Company, LLC, et al. and Withdrawal of Duplicative Revised Tariff Sheets of Waterside Power, LLC under ER99-3502, et al.

Filed Date: 07/07/2008.

Accession Number: 20080707-5245.

Comment Date: 5 p.m. Eastern Time on Monday, July 21, 2008.

Docket Numbers: ER00-895-009.

Applicants: Onondago Cogeneration Limited Partnership.

Description: Onondaga Cogeneration Limited Partnership request that FERC accept the attached request for Category 1 Seller determination ( Request) as timely filed, or alternatively find that good cause exist to grant waiver.

Filed Date: 07/01/2008.

Accession Number: 20080707-0003.

Comment Date: 5 p.m. Eastern Time on Tuesday, July 22, 2008.

Docket Numbers: ER01-174-004.

Applicants: Lighthouse Energy Trading Company, Inc.

Description: Lighthouse Energy Trading Co, Inc requests that the FERC accept their request for Category 1 Seller determination, or alternatively find that good cause exist to grant waiver pursuant to Order 697.

Filed Date: 07/01/2008.

Accession Number: 20080707-0010.

Comment Date: 5 p.m. Eastern Time on Tuesday, July 22, 2008.

Docket Numbers: ER02-1398-004; ER08-1100-002; ER08-1099-002; ER05-1249-007.

Applicants: KeySpan-Ravenswood, LLC; National Grid-Glenwood Energy Center, LLC; National Grid-Port Jefferson Energy Center, LLC; Granite State Electric Co.

Description: Compliance filing of National Grid USA to comply with directives in FERC's Order.

Filed Date: 07/03/2008.

Accession Number: 20080707-0295.

Comment Date: 5 p.m. Eastern Time on Thursday, July 24, 2008.

Docket Numbers: ER02-2559-008; ER02-669-008; ER00-2391-009; ER00-3068-008; ER98-3511-012; ER02-1903-009; ER99-2917-010; ER98-3566-015; ER02-1838-008; ER98-3563-012; ER98-3564-013; ER02-2120-006; ER05-714-003; ER03-623-008; ER04-290-004; ER01-1710-011; ER04-187-006; ER05-236-006; ER02-2166-008; ER01-2139-012; ER03-1375-005.

Applicants: Backbone Mountain Windpower LLC; Bayswater Peaking Facility, LLC; Doswell Limited Partnership; FPL Energy Cape, LLC; FPL Energy Maine Hydro, LLC; FPL Energy Marcus Hook, L.P.; FPL Energy MH 50, LP; FPL Energy Seabrook, LLC; FPL Energy Wyman, LLC; FPL Energy Wyman IV, LLC; FPLE Rhode Island State Energy, L.P.; Gexa Energy LLC; Jamaica Bay Peaking Facility, LLC; Meyersdale Windpower, LLC; Mill Run Windpower, LLC; North Jersey Energy Associates, L.P.; Northeast Energy Associates, LP; Pennsylvania Windfarms, Inc.; Somerset Windpower, LLC; Waymart Wind Farm L.P.

Description: The FPLE Companies submit the Triennial Updated Market Power Analysis under ER02-2559 et al.

Filed Date: 06/30/2008.

Accession Number: 20080707-0013.

Comment Date: 5 p.m. Eastern Time on Monday, July 21, 2008.

Docket Numbers: ER03-9-012; ER98-2157-013.

Applicants: Westar Energy, Inc.; Kansas Gas and Electric Company.

Description: Revised Notice of Change in Status of Westar Energy, Inc.

Filed Date: 07/02/2008.

Accession Number: 20080702-5077.

Comment Date: 5 p.m. Eastern Time on Wednesday, July 23, 2008.

Docket Numbers: ER03-9-014; ER06-1313-004; ER98-2157-015.

Applicants: Westar Energy, Inc., Kansas Gas and Electric Company.

Description: Refund Report of Westar Energy, Inc., et al.

Filed Date: 07/03/2008.

Accession Number: 20080703-5148.

Comment Date: 5 p.m. Eastern Time on Thursday, July 24, 2008.

Docket Numbers: ER03-114-005; ER04-183-004.

Applicants: Great Bay Power Marketing, Inc.; Great Bay Hydro Corporation.

Description: Great Bay Power Marketing, Inc and Great Bay Hydro Corp's application for qualification as Category 1 Sellers and revised tariff sheets pursuant to Orders 697 and 697-A under ER03-114 et al.

Filed Date: 07/01/2008.

Accession Number: 20080707-0011.

Comment Date: 5 p.m. Eastern Time on Tuesday, July 22, 2008.

Docket Numbers: ER03-774-009.

Applicants: Eagle Energy Partners I, L.P.

Description: Lehman Brothers Commodity Services, Inc and Eagle Energy Partners I, LP submits their petition requesting classification as a Category 1 Seller pursuant to Order 697 and market-based rate compliance filings under ER05-1420 et al.

Filed Date: 06/30/2008.

Accession Number: 20080702-0001.

Comment Date: 5 p.m. Eastern Time on Monday, July 21, 2008.

Docket Numbers: ER03-1182-006; ER04-698-006; ER99-415-016.

Applicants: Tyr Energy, LLC; Tor Power, LLC; Commonwealth Chesapeake Company, LLC.

Description: Tyr Energy LLC et al. requests that FERC accept the request for Category 1 Seller determination as timely filed, or alternatively find that good cause exists to grant waiver.

Filed Date: 07/01/2008.

Accession Number: 20080703-0139.

Comment Date: 5 p.m. Eastern Time on Tuesday, July 22, 2008.

Docket Numbers: ER05-1288-001; ER04-1013-003.

Applicants: Wheelabrator North Andover Inc., Wheelabrator Westchester, L.P.

Description: Wheelabrator North Andover Inc et al. submits updated market analysis in compliance filing etc under ER05-1288 et al.

Filed Date: 06/27/2008.

Accession Number: 20080702-0104.

Comment Date: 5 p.m. Eastern Time on Friday, July 18, 2008.

Docket Numbers: ER06-1512-001.

Applicants: Verso Androscoggin LLC.

Description: Verso Androscoggin LLC request that the FERC accept the attached request for Category 1 Seller determination (Request) as timely filed, or alternatively find that good cause exists to grant waiver.

Filed Date: 07/01/2008.

Accession Number: 20080707-0002.

Comment Date: 5 p.m. Eastern Time on Tuesday, July 22, 2008.

Docket Numbers: ER06-758-005.

Applicants: Chambers Cogeneration, Limited Partnership.

Description: Chambers Cogeneration, Limited Partnership submits a supplement to its updated market power analysis in compliance with Order 697-A.

Filed Date: 06/30/08; 07/01/2008.

Accession Number: 20080702-0215; 20080702-0216.

Comment Date: 5 p.m. Eastern Time on Tuesday, July 22, 2008.

Docket Numbers: ER07-466-002.

Applicants: MET MA, LLC.

Description: MET MA, LLC submits Order 697 compliance filing and Application for Category 1 Status under ER07-466.

Filed Date: 06/30/2008.

Accession Number: 20080702-0119.

Comment Date: 5 p.m. Eastern Time on Monday, July 21, 2008.

Docket Numbers: ER07-1040-001; ER06-169-002; ER08-1108-001.

Applicants: Hopewell Cogeneration Ltd Partnership, Syracuse Energy Corporation, SUEZ Energy Marketing NA, Inc.

Description: Hopewell Cogeneration Limited Partnership et al. submits an updated market power analysis supporting their continued authorization to sell power at market-based rates and filed workpapers on 7/1/08.

Filed Date: 06/30/2008; 07/01/2008.

Accession Number: 20080708-0042; 20080708-0043.

Comment Date: 5 p.m. Eastern Time on Monday, July 21, 2008.

Docket Numbers: ER07-1136-002.

Applicants: Camp Grove Wind Farm LLC.

Description: Order No. 697 Compliance Filing of Camp Grove Wind Farm LLC.

Filed Date: 07/01/2008.

Accession Number: 20080630-5145.

Comment Date: 5 p.m. Eastern Time on Tuesday, July 22, 2008.

Docket Numbers: ER07-1136-003; ER08-561-001.

Applicants: Benton County Wind Farm LLC, Camp Grove Wind Farm LLC.

Description: Notice of Change of Status of Camp Grove Wind Farm LLC, et al. in ER07-1136, et al.Filed Date: 07/02/2008.

Accession Number: 20080702-5076.

Comment Date: 5 p.m. Eastern Time on Wednesday, July 23, 2008.

Docket Numbers: ER07-1174-003; OA07-74-003.

Applicants: MATL LLP.

Description: MATL LLP submits a compliance filing re OATT Attachments C and K under ER07-1174 et al.

Filed Date: 07/03/2008.

Accession Number: 20080708-0044.

Comment Date: 5 p.m. Eastern Time on Thursday, July 24, 2008.

Docket Numbers: ER08-371-002.

Applicants: Cooperative Energy Incorporated.

Description: Cooperative Energy Inc submits FERC Rate Schedule 1, Original Sheet which correctly reflects the effective date of 6/22/08 re notification of excess sales under ER08-371.

Filed Date: 07/02/2008.

Accession Number: 20080703-0202.

Comment Date: 5 p.m. Eastern Time on Wednesday, July 23, 2008.

Docket Numbers: ER08-541-002.

Applicants: American Electric Power Service Corporation.

Description: The American Electric Power Service Corp submits amendment to the Revised Interconnection and Local Delivery Service Agreement with the City of Garrett under ER08-541.

Filed Date: 07/02/2008.

Accession Number: 20080703-0148.

Comment Date: 5 p.m. Eastern Time on Wednesday, July 23, 2008.

Docket Numbers: ER08-569-002.

Applicants: PJM Interconnection, L.L.C.

Description: PJM Interconnection, LLC submits revised tariff sheets for Article II.C of Attachment Q-PJM Credit Policy of the PJM Open Access Transmission Tariff, Sixth Revised Volume 1 etc under ER08-569 et al.

Filed Date: 07/03/2008.

Accession Number: 20080707-0085.

Comment Date: 5 p.m. Eastern Time on Thursday, July 24, 2008.

Docket Numbers: ER08-808-001.

Applicants: Westar Energy, Inc.

Description: Westar Energy, Inc submits the Alternate Pro Forma Sheet 30 in compliance with FERC's 6/6/08 Order under ER08-808.

Filed Date: 07/08/2008.

Accession Number: 20080710-0100.

Comment Date: 5 p.m. Eastern Time on Tuesday, July 29, 2008.

Docket Numbers: ER08-951-001.

Applicants: PSEG Energy Resources & Trade LLC.

Description: PSEG Energy Resources and Trade, LLC submits an amendment to its 5/13/08 filing of a new rate schedule under ER08-951.

Filed Date: 07/08/2008.

Accession Number: 20080710-0099.

Comment Date: 5 p.m. Eastern Time on Tuesday, July 29, 2008.

Docket Numbers: ER08-964-001.

Applicants: Outback Power Marketing, Inc.

Description: Outback Power Marketing, Inc submits an amendment to its 5/16/08 Notice of Cancellation under ER08-964.

Filed Date: 07/01/2008.

Accession Number: 20080703-0203.

Comment Date: 5 p.m. Eastern Time on Tuesday, July 22, 2008.

Docket Numbers: ER08-996-001.

Applicants: CBA Endeavors, LLC.

Description: CBA Endeavors, LLC submits the amendment to 5/20/08 Petition for Acceptance of Initial Tariff, Waivers and Blanket Authority under ER08-996.

Filed Date: 07/07/2008.

Accession Number: 20080708-0035.

Comment Date: 5 p.m. Eastern Time on Monday, July 28, 2008.

Docket Numbers: ER08-1193-000.

Applicants: Pacific Gas and Electric Company.

Description: Pacific Gas and Electric Company submits the revisions to the Generator Special Facilities Agreement and the Generator Interconnection Agreement between PG&E Geysers Power Company, LLC under ER08-1193.

Filed Date: 07/01/2008.

Accession Number: 20080708-0274.

Comment Date: 5 p.m. Eastern Time on Tuesday, July 22, 2008.

Docket Numbers: ER08-1195-000.

Applicants: Red Hills Wind Project LLC.

Description: Application for Red Hills Wind Project, LLC for order accepting market-based rate tariff, granting authorizations and blanket authority, and waiving certain requirements under ER08-1195.

Filed Date: 07/02/2008.

Accession Number: 20080707-0004.

Comment Date: 5 p.m. Eastern Time on Wednesday, July 23, 2008.

Docket Numbers: ER08-1200-000.

Applicants: MidAmerican Energy Company.

Description: MidAmerican Energy Co submits Notices of Cancellation of agreements with Western Area Power Administration.

Filed Date: 07/01/2008.

Accession Number: 20080703-0150.

Comment Date: 5 p.m. Eastern Time on Tuesday, July 22, 2008.

Docket Numbers: ER08-1201-000.

Applicants: Southwestern Electric Power Company.

Description: Southwestern Electric Power Co submits amendments to an agreement with Tex-La Electric Cooperative, Inc.

Filed Date: 07/01/2008.

Accession Number: 20080703-0141.

Comment Date: 5 p.m. Eastern Time on Tuesday, July 22, 2008.

Docket Numbers: ER08-1202-000.

Applicants: Huntrise Energy Fund LLC.

Description: Huntrise Energy Fund LLC Petition for Acceptance of Initial Rate Schedule, Waivers and Blanket Authority.

Filed Date: 07/01/2008.

Accession Number: 20080703-0151.

Comment Date: 5 p.m. Eastern Time on Tuesday, July 22, 2008.

Docket Numbers: ER08-1203-000.

Applicants: California Independent System Operator Corporation.

Description: California Independent System Operator Corp submits an amendment to the Participation Load Agreement with the California Department of Water Resources.

Filed Date: 07/01/2008.

Accession Number: 20080703-0142.

Comment Date: 5 p.m. Eastern Time on Tuesday, July 22, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-16309 Filed 7-16-08; 8:45 am]

BILLING CODE 6717-01-P